SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW, Washington, DC 20503, Fax: 202-395-6974.

(SSA) Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Change in Time/Place of Disability Hearing—20 CFR 404.914(c)(2) and 416.1414(c)(2)—0960-0348. The information on Form SSA-769 is used by SSA and the State Disability Determination Services (DDSs) to provide claimants with a structured format to exercise their right to request a change in the time or place of a scheduled disability hearing. The information is to be used as a basis for granting or denying requests for changes and for rescheduling hearings. The respondents are claimants who wish to request a change in the time or place of their disability hearing.

Type of Request: Extension of an OMB-approved information collection.

Number of Respondents: 7,483.

Frequency of Response: 1.

Average Burden Per Response: 8 minutes.

Estimated Annual Burden: 998 hours.

2. Disability Hearing Officer's Report of Disability Hearing—20 CFR 416.1407, 404.917, and 416.1417—0960-0440. The information on Form SSA-1205-BK is used by the Disability Hearing Officers (DHOs) at the Social Security Administration (SSA) as a guide to conducting and recording disability hearings. It ensures that all of the pertinent issues are considered. The respondents are DHOs in the State Disability Determination Services and Federal DHOs.

Type of Request: Extension of an OMB-approved information collection.

Number of Respondents: 100,000.

Frequency of Response: 1.

Average Burden Per Response: 60 minutes.

Estimated Annual Burden: 100,000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Farm Self-Employment Questionnaire—20 CFR 404.1095—0960-0061. Section 211(a) of the Social Security Act requires the existence of a trade or business as a prerequisite for determining whether an individual or partnership may have “net earnings from self-employment.” Form SSA-7156 elicits the information necessary to determine the existence of an agricultural trade or business and subsequent covered earnings for Social Security entitlement purposes. The respondents are applicants for Social Security benefits, whose entitlement depends on whether the worker has covered earnings from self-employment as a farmer.

Type of Request: Extension of an OMB-approved information collection.

Number of Respondents: 47,500.

Frequency of Response: 1.

Average Burden Per Response: 10 minutes.

Estimated Annual Burden: 7,917 hours.

2. Supplemental Statement Regarding Farming Activities of Person Living Outside the U.S.A.—0960-0103. Form SSA-7163A-F4 is used by SSA to collect needed information whenever a Social Security beneficiary or claimant reports work on a farm outside the U.S. The information is used to make a determination for work deduction purposes. The respondents are Social Security beneficiaries or claimants who are engaged in farming activities outside the U.S.

Type of Request: Extension of an OMB-approved information collection.

Number of Respondents: 1,000.

Frequency of Response: 1.

Average Burden Per Response: 60 minutes.

Estimated Annual Burden: 1,000 hours.

3. Subpoena-Disability Hearing—20 CFR 404.916(b)(1) and 416.1416(b)(1)—0960-0428. The information on Form SSA-1272-U4 is used by SSA to subpoena evidence or testimony needed at disability hearings. The respondents are comprised of officers from Federal and State Disability Determination Services (DDSs).

Type of Request: Extension of an OMB-approved information collection.

Number of Respondents: 36.

Frequency of Response: 1.

Average Burden Per Response: 30 minutes.

Estimated Annual Burden: 18 hours.

4. Request for Earnings and Benefit Estimate Statement—20 CFR 404.810—0960-0466. Form SSA-7004 is used by members of the public to request information about their Social Security earnings records and to get an estimate of their potential benefits. SSA provides information, in response to the request, from the individual's personal Social Security record. The respondents are Social Security number holders who have covered earnings on record.

Type of Request: Extension of an OMB-approved information collection.

Number of Respondents: 800,000.

Frequency of Response: 1.

Average Burden Per Response: 5 minutes.

Estimated Annual Burden: 66,667 hours.

5. Employer Verification of Earnings after Death—20 CFR 404.821 and 404.822—0960-0472. The information collected on Form SSA-L4112 is used by SSA to determine whether wages reported by an employer are correct, when SSA records indicate that the wage earner is deceased. The respondents are employers who report wages for a deceased employee.

Type of Request: Extension of an OMB-approved information collection.

Number of Respondents: 50,000.

Frequency of Response: 1.

Average Burden Per Response: 10 minutes.

Estimated Annual Burden: 8,333 hours.

6. Medical History and Disability Report, Disabled Child—20 CFR 416.912—0960-0577. The Social Security Act requires claimants to furnish medical and other evidence to prove they are disabled. Form SSA-3820 is used to obtain various types of information about a child's condition, his/her treating sources and/or other medical sources of evidence. The i3820 allows the claimant for disability benefits to go online and furnish the same information. The Electronic Disability Collect System (EDCS) is an internal collection process. Using EDCS, Field Office (FO) employees key information provided by applicants or their representatives onto EDCS screens, which establish a database that the adjudicating component can access. Both the i3820 and EDCS screens have been designed to capture the same information as the revised paper version of the SSA-3820. The information collected on the SSA-3820 is needed for the determination of disability by the State DDSs. The respondents are applicants for Title XVI (SSI) child disability benefits.

Type of Request: Extension of an OMB-approved information collection.

| SSA-3820 | i3820 | EDCS
Number of Respondents | 366,000 | 2,500 | 157,000
Average Burden per Response (hours) | 1 | 2 | 1
Total Burden (hours) | 366,000 | 5,000 | 157,000
Total Estimated Annual Burden: 528,000 hours.

7. Work History Report—20 CFR 404.1512 and 416.912—0960-0578. The information collected on form SSA-3369 is needed to determine disability by the State Disability Determination Services (DDSs). The information will be used to document an individual's past work history. The respondents are applicants for disability payments.

Type of Request: Extension of an OMB-approved information collection.

Number of Respondents: 1,000,000.

Frequency of Response: 1.

Average Burden Per Response: 30 minutes.

Estimated Annual Burden: 500,000 hours.

8. Annual Registration Statement Identifying Separated Participants with Deferred Benefits, Schedule SSA—0960-0606. Schedule SSA is a form filed annually as part of a series of pension plan documents required by section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the schedule SSA on behalf of the pension benefit plan. Below are the estimates of the cost and hour burdens for completing and filing schedule SSA(s). We have used an average to estimate the hour burden. However, the burden may be greater or smaller depending on whether the respondent is a large or small pension benefit plan and how many schedule SSA's are filed in a given year.

Type of Request: Extension of an OMB-approved information collection.

Number of Respondents: 88,000.

Frequency of Response: 1.

Average Burden Per Response: 2.5 hours.

Estimated Annual Burden: 220,000 hours.

9. State Agency Report of Obligations for SSA Disability Programs and Addendum, SSA-4513; Time Report of Personnel Services for Disability Determination Services, SSA-4514; and State Agency Schedule of Equipment Purchased for SSA Disability Programs, SSA-871—0960-0421. SSA uses the information collected by forms SSA-4513 and SSA-4514 to conduct a detailed analysis and evaluation of the costs incurred by the State Disability Determination Services (DDSs) in making the disability determination for SSA. The data is also used to determine funding levels for each DDS. SSA uses the information collected by form SSA-871 to budget and account for expenditures of funds for equipment purchases by the State DDSs that administer the disability determination program. The respondents are DDSs that have the responsibility for making disability determinations for SSA.

Type of Information Collection: Extension of an OMB-approved information collection.

| Number of respondents | Frequency of response | Average burden per response (minutes) | Estimated annual burden (hours)
SSA-4513 | 52 | 4 | 90 | 312
SSA-4514 | 52 | 4 | 90 | 312
SSA-871 | 52 | 4 | 30 | 104
Total Estimated Annual Burden |  |  |  | 728

10. Summary of Evidence—20 CFR 416.1407—0960-0430. Form SSA-887 is used by the State Disability Determination Services (DDS) to provide claimants with a list of medical/vocational reports pertaining to their disability. The form will aid claimants in reviewing the evidence in their folders and will also be used by hearing officers in preparing for and conducting hearings. The respondents are State DDSs that make disability determinations.

Type of Request: Extension of an OMB-approved information collection.

Number of Respondents: 49,000.

Frequency of Response: 1.

Average Burden Per Response: 15 minutes.

Estimated Annual Burden: 12,250 hours.

11. Wage Reports and Pension Information—20 CFR 422.122(b)—0960-0547. The information collected by form OR-418P is used by SSA to identify the requester of pension plan information and to confirm that the individual is entitled to the data SSA provides. The respondents are requesters of pension plan information.

Type of Request: Extension of an OMB-approved information collection.

Number of Respondents: 600.

Frequency of Response: 1.

Average Burden Per Response: 30 minutes.

Estimated Annual Burden: 300 hours.

Dated: May 6, 2004.
Elizabeth A. Davidson,
Reports Clearance Officer, Social Security Administration.

[FR Doc. 04-10713 Filed 5-11-04; 8:45 am]

BILLING CODE 4191-02-P